DEPARTMENT OF DEFENSE

Office of the Secretary

[Docket ID: DoD-2022-OS-0113]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by October 16, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Understanding Service Member Experiences with Family Planning; OMB Control Number 0704-0644.

Type of Request: New.

Number of Respondents: 500.

Responses per Respondent: 1.

Annual Responses: 500.

Average Burden per Response: 60 minutes.

Annual Burden Hours: 500.

Needs and Uses: The Independent Review Commission on Sexual Assault in the Military recommended that Active-Duty Service members survivors be authorized to access health care for their sexual trauma, through the Department of Veterans Affairs (VA) without a referral, citing stigma as a significant barrier to accessing mental health care. This recommendation was modified by the Department to explore the feasibility of this recommendation, and whether this addresses stigma and other associated barriers to help-seeking.

The literature review, “Rollison, Julia, et. al. 2023 “Psychological Harms and Treatment of Sexual Assault and Sexual Harassment in Adults: Systematic and Scoping Review to Inform Improved Care for Military Populations,” identified potential additional barriers to accessing mental health care at the VA for the active-duty population, underscoring the importance of identifying barriers to help-seeking among existing care within the Department.

To best understand the barriers and facilitators to mental health help-seeking among Active-Duty survivors of sexual trauma, information collection from installation stakeholders (DoD personnel who respond to sexual trauma, support, and assist survivors), command leaders, Active-Duty Service members and Active-Duty survivors is required to better understand their attitudes, beliefs, knowledge, and experience with available mental health care. The information collected from these listening sessions will provide critical information necessary to address barriers and make program and policy improvements that facilitate help seeking among sexual trauma supporters.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Mr. Reginald Lucas.

Requests for copies of the information collection proposal should be sent to Mr. Lucas at whs.mc-alex.esd.mbx.dd-dod-information-collections@mail.mil.

Dated: September 11, 2024.
Aaron T. Siegel,
Alternate OSD Federal Register Liaison Officer, Department of Defense.

[FR Doc. 2024-21000 Filed 9-13-24; 8:45 am]

BILLING CODE 6001-FR-P